FEDERAL COMMUNICATIONS COMMISSION

47 CFR Part 27

[WT Docket No. 99-168; DA 00-450 and DA 00-1680]

Service Rules for the 746-764 and 776-794 MHz Bands

AGENCY: Federal Communications Commission.

ACTION: Final rule; clarifying amendments.

SUMMARY: This document amends 47 CFR part 27 to accurately reflect recent Commission decisions regarding service rules for the 746-764 and the 776-794 MHz band. Specifically, the Commission amended part 27 in two documents. The first document, FR Doc. 00-1332, published at 65 FR 3139, and the second, FR Doc. 00-8144, published at 65 FR 17594, inadvertently failed to revise certain rules that should have been updated to conform with these amendments.

DATES: Effective September 21, 2000.

FOR FURTHER INFORMATION CONTACT: Jane Phillips, 202-418-1310.

SUPPLEMENTARY INFORMATION:

Background

The Commission amended its service rules for the 746-764 and 776-794 MHz bands in two recent decisions. The First Report and Order (FR Doc. 00-1332) was published at 65 FR 3139, January 20, 2000, and the Second Report and Order (FR Doc. 00-8144) at 65 FR 17594, April 4, 2000). These rule changes affected other rules in the current CFR, which were inadvertently not amended at that time to reflect the new amendments.

Need for Clarifying Rules

The existing rule sections affected by these recent decisions must be amended to conform with the actions taken in the two Commission decisions. The current amendments will ensure that the Commission's rules are current, useful, and correct.

List of Subjects in 47 CFR Part 27

Telecommunications.

Accordingly, 47 CFR Part 27 is amended as follows:

PART 27—WIRELESS COMMUNICATIONS SERVICES

1. The authority citation for part 27 continues to read as follows:

Authority: 47 U.S.C. 154, 301, 302, 303, 307, 309, and 332, unless otherwise noted.

§ 27.15 [Amended]

2. Section 27.15(a)(1) is amended by revising the reference “section 27.324” to read “§ 1.948.”

3. The heading of subpart D is revised to read as follows:

Subpart D—Competitive Bidding Procedures for the 2305-2320 MHz and 2345-2360 MHz Bands

4. Revise the section heading for § 27.201 as set forth below, and revise the reference to “WCS” to read “WCS in the 2305-2320 MHz and 2345-2360 MHz bands.”

§ 27.201 WCS in the 2305-2320 MHz and 2345-2360 MHz bands subject to competitive bidding.

* * * * *

§§ 27.202, 27.205, 27.209, and 27.210 [Amended]

5. Remove references to “WCS” and add in its place, “WCS in the 2305-2320 and 2345-2360 bands” wherever they appear in the following sections:

§ 27.202

§ 27.205(a)

27.209(a)

The example following § 27.210(d)(3)(ii)(C)

Examples 1 and 2 following § 27.210(d)(5)

6. Section 27.308 is revised to read as follows:

§ 27.308 Technical content of applications.

All applications required by this part shall contain all technical information required by the application forms or associated public notice(s). Applications other than initial applications for a WCS license must also comply with all technical requirements of the rules governing the applicable frequency band (see subparts C, D, F, and G of this part, as appropriate).

Federal Communications Commission.
William F. Caton,
Deputy Secretary.

[FR Doc. 00-24075 Filed 9-20-00; 8:45 am]

BILLING CODE 6712-01-P